Proclamation 9638 of September 13, 2017

National POW/MIA Recognition Day, 2017

By the President of the United States of America

A Proclamation

Americans are blessed with many freedoms thanks to the hard-earned battle victories and tremendous sacrifices of our military men and women. The members of our Armed Forces shine a light of freedom throughout the world, and as we celebrate our returning heroes, we also remember our heroes who never returned home. On National POW/MIA Recognition Day, our Nation recognizes all American prisoners of war and service members missing in action who have valiantly honored their commitment to this great country.

It is our sacred obligation to pay tribute to the thousands of men and women of our Armed Forces who have been imprisoned while serving in conflicts and who have yet to return to American soil. We reflect on the brave Americans who, while guarding our freedom and our way of life, spent years of their youth imprisoned in distant lands. They paid an enormous price and remained dedicated to our sacred principles, even while under extreme duress.

We do not leave our fellow man or woman behind, and we do not rest until our mission is complete. For more than three decades, our country has conducted investigation and recovery operations in Southeast Asia with the help of the governments of Vietnam, Laos, and Cambodia. Whether in Southeast Asia, or in South Korea, Europe, the South Pacific, and in all other corners of the globe, we are committed to this most honorable mission of fully accounting for our missing personnel. We are encouraged by the progress made, but know our mission is ongoing until every Soldier, Sailor, Airman, Coast Guardsman, and Marine missing in the line of duty is accounted for.

As Commander in Chief, it is my solemn duty to keep all Americans safe. I will never forget our heroes held prisoner or who have gone missing in action while serving their country. Today, we recognize not just the tremendous sacrifices of our service members, but also those of their families who still seek answers. We are steadfastly committed to bringing solace to those who wait for the fullest possible accounting of their loved ones.

On September 15, 2017, the stark black and white banner symbolizing America's Missing in Action and Prisoners of War will be flown over the White House; the United States Capitol; the Departments of State, Defense, and Veterans Affairs; the Selective Service System Headquarters; the World War II Memorial; the Korean War Veterans Memorial; the Vietnam Veterans Memorial; United States post offices; national cemeteries; and other locations across our country. We raise this flag as a solemn reminder of our obligation to always remember the sacrifices made to defend our Nation.

NOW, THEREFORE, I, DONALD J. TRUMP, President of the United States of America, by virtue of the authority vested in me by the Constitution and the laws of the United States, do hereby proclaim September 15, 2017, as National POW/MIA Recognition Day. I call upon the people of the United States to join me in saluting all American POWs and those missing in action who valiantly served our country. I call upon Federal, State, and local government officials and private organizations to observe this day with appropriate ceremonies and activities.

IN WITNESS WHEREOF, I have hereunto set my hand this thirteenth day of September, in the year of our Lord two thousand seventeen, and of the Independence of the United States of America the two hundred and forty-second.

[FR Doc. 2017-20004

Filed 9-15-17; 11:15 am]

Billing code 3295-F7-P